DEPARTMENT OF HEALTH AND HUMAN SERVICES

National Institutes of Health

National Cancer Institute; Amended Notice of Meeting

Notice is hereby given of a change in the meeting of the National Cancer Institute Special Emphasis Panel, February 2-3, 2016 08:00 a.m. to 05:00 p.m., Hilton Washington DC/Rockville, Rockville, MD 20852 which was published in the Federal Register on December 7, 2015 80 FR 76026.

The meeting notice is amended to change the title from “NCI P01 Meeting II” to “NCI Program Project Meeting III”. The meeting is closed to the public.

Dated: December 28, 2015.
Melanie J. Gray,
Program Analyst, Office of Federal Advisory Committee Policy.

[FR Doc. 2015-32936 Filed 12-30-15; 8:45 am]

BILLING CODE 4140-01-P